DEPARTMENT OF DEFENSE

Office of the Secretary

[Transmittal No. 20-49]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 20-49 with attached Policy Justification and Sensitivity of Technology.

Dated: June 10, 2024.
Aaron T. Siegel,
Alternate OSD Federal Register Liaison Officer, Department of Defense.

BILLING CODE 6001-FR-P

BILLING CODE 6001-FR-C

Transmittal No. 20-49

Notice of Proposed Issuance of Letter of Offer Pursuant to Section 36(b)(1) of the Arms Export Control Act, as amended

(i) Prospective Purchaser: Government of the United Arab Emirates (UAE)

(ii) Total Estimated Value:

Major Defense Equipment * | $ 0 million
Other | $206 million
TOTAL | $206 million

Funding Source: National Funds

(iii) Description and Quantity or Quantities of Articles or Services Under Consideration for Purchase: The Government of UAE has requested a possible sale of Oceanographic Observation Equipment System.

Major Defense Equipment (MDE):

None

Non-MDE:

An Oceanographic Observation Equipment System that includes multi-site sensors; multiple remote data collection facilities; support for centralized data analysis center eight (8) data analysis workstations; fiber optic communications suites; power supplies; uninterruptable power supplies; power and data distribution; U.S. Government and contractor engineering, technical and logistics support services; and other related elements of logistical and program support.

(iv) Military Department: Navy (AE-P-LAI)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: July 21, 2022

* As defined in Section 47(6) of the Arms Export Control Act.

POLICY JUSTIFICATION

United Arab Emirates—Oceanographic Observation Equipment System

The Government of the United Arab Emirates (UAE) has requested to buy an Oceanographic Observation Equipment System that includes multi-site sensors; multiple remote data collection facilities; support for centralized data analysis center eight (8) data analysis workstations; fiber optic communications suites; power supplies; uninterruptable power supplies; power and data distribution; U.S. Government and contractor engineering, technical and logistics support services; and other related elements of logistical and program support. The estimated total cost is $206 million.

This proposed sale will support the foreign policy and national security objectives of the United States by helping to improve the security of an important regional partner. The UAE has been, and continues to be, a vital U.S. partner for political stability and economic progress in the Middle East.

The proposed sale will provide UAE with real-time oceanographic data in defense of the UAE maritime boundary, natural resources and ports. The United Arab Emirates will have no difficulty absorbing this equipment into its armed forces.

The proposed sale of this equipment and support will not alter the basic military balance in the region.

The principal contractor(s) will be Lockheed Martin Rotary and Mission System, Manassas, VA. There are no known offset agreements proposed in connection with this potential sale.

Implementation of this proposed sale will require the assignment of two (2) contractor representatives to the UAE to provide technical reviews, support, and oversight for two and a half (2.5) years following initial operating capability.

There will be no adverse impact on U.S. defense readiness as a result of this proposed sale.

Transmittal No. 20-49

Notice of Proposed Issuance of Letter of Offer Pursuant to Section 36(b)(1) of the Arms Export Control Act

Annex

Item No. vii

(vii) Sensitivity of Technology:

1. The Oceanographic Environmental Observation Equipment (OEOE) System is an underwater fixed surveillance system that consists of twelve (12) sensors connected to shore processing which allows the tracking of marine platforms. The system provides acoustic detection and tracking of contacts of interest. The performance will depend on the contact's acoustic properties and local environmental conditions. The following capabilities will be provided:

a. Operator Workstation/Displays: Eight (8) operator workstations. This capability will provide three flat-panel displays, a keyboard and mouse per operator station to support the presentation of acoustic information to the operators, and the monitoring and maintenance of the system health and status by the maintainer.

b. Data Storage: This capability will provide for the collection, aggregation and storage of information in a central contact database.

c. Maintenance Displays: Two (2) maintenance displays. This capability will provide a maintenance operator system a view of the health of the system and tools to trouble and correct issues.

d. Audio Playback: This capability will allow operators to listen to acoustic data processed by the system.

2. The highest level of classification of defense articles, components, and services included in this potential sale is SECRET//REL TO USA, ARE.

3. If a technologically advanced adversary were to obtain knowledge of the hardware and software elements, the information could be used to develop countermeasures or equivalent systems which might reduce system effectiveness or be used in the development of a system with similar or advanced capabilities.

4. A determination has been made that the United Arab Emirates can provide substantially the same degree of protection for the sensitive technology being released as the U.S. Government. This sale is necessary in furtherance of the U.S. foreign policy and national security objectives outlined in the Policy Justification.

5. All defense articles and services listed in this transmittal are authorized for release and export to the United Arab Emirates.

[FR Doc. 2024-12942 Filed 6-12-24; 8:45 am]

BILLING CODE 6001-FR-P